DEPARTMENT OF HOMELAND SECURITY

Coast Guard

33 CFR Part 117

[Docket No. USCG-2017-0674]

Drawbridge Operation Regulation; Hackensack River, Little Snake Hill, NJ

AGENCY: Coast Guard, DHS.

ACTION: Notice of deviation from drawbridge regulation.

SUMMARY: The Coast Guard has issued a temporary deviation from the operating schedule that governs the Amtrak Portal Bridge across the Hackensack River, mile 5.0, at Little Snake Hill, New Jersey. This temporary deviation is necessary to allow the bridge to remain in the closed-to-navigation position to facilitate the replacement of miter rails and timbers of the bridge.

DATES: This deviation is effective from 10 p.m. on September 8, 2017 to 5 a.m. on October 1, 2017.

ADDRESSES: The docket for this deviation, USCG-2017-0674 is available at http://www.regulations.gov. Type the docket number in the “SEARCH” box and click “SEARCH”. Click on Open Docket Folder on the line associated with this deviation.

FOR FURTHER INFORMATION CONTACT: If you have questions on this temporary deviation, call or email Judy Leung-Yee, Project Officer, First Coast Guard District, telephone (212) 514-4336, email Judy.K.Leung-Yee@uscg.mil.

SUPPLEMENTARY INFORMATION: The National Railroad Passenger Corporation (Amtrak), the owner of the bridge, requested a temporary deviation from the normal operating schedule to facilitate the replacement of miter rails and timbers of the bridge. The Amtrak Portal Bridge across the Hackensack River, mile 5.0, has a vertical clearance in the closed position of 23 feet at mean high water and 28 feet at mean low water. The existing bridge operating regulations are found at 33 CFR 117.723(e).

Under this temporary deviation, the Amtrak Portal Bridge shall remain in the closed position between 10 p.m. Friday and 5 a.m. Sunday as follows: September 8-10, 15-17, 22-24; September 29-October 1, 2017.

The waterway is transited by commercial and recreational traffic. The Coast Guard notified known companies of the commercial vessels that transit the area, including the Sandy Hook Pilots and the local tug/tow committee; there were no objections to this temporary deviation. Vessels able to pass under the bridge in the closed position may do so at anytime. The bridge will not be able to open for emergencies and there is no immediate alternate route for vessels to pass.

The Coast Guard will inform the users of the waterways through our Local Notice and Broadcast to Mariners of the change in operating schedule for the bridge so that vessel operations can arrange their transits to minimize any impact caused by the temporary deviation.

In accordance with 33 CFR 117.35(e), the drawbridge must return to its regular operating schedule immediately at the end of the effective period of this temporary deviation. This deviation from the operating regulations is authorized under 33 CFR 117.35.

Dated: July 20, 2017.
Christopher J. Bisignano,
Supervisory Bridge Management Specialist, First Coast Guard District.

[FR Doc. 2017-15557 Filed 7-24-17; 8:45 am]

BILLING CODE 9110-04-P